FEDERAL COMMUNICATIONS COMMISSION

[FRS 17104]

Open Commission Meeting, Wednesday September 30, 2020

September 23, 2020.

The Federal Communications Commission will hold an Open Meeting on the subjects listed below on Wednesday, September 30, 2020, which is scheduled to commence at 10:30 a.m. Due to the current COVID-19 pandemic and related agency telework and headquarters access policies, this meeting will be in a wholly electronic format and will be open to the public on the internet via live feed from the FCC's web page at www.fcc.gov/live and on the FCC's YouTube channel.

ITEM NO. | BUREAU | SUBJECT
1 | Wireless Tele-Communcations | TITLE: Facilitating Shared Use in the 3.1-3.55 GHz Band (WT Docket No. 19-348). SUMMARY: The Commission will consider a Report and Order that would remove the existing non-federal allocations from the 3.3-3.55 GHz band as an important step toward making 100 megahertz of spectrum in the 3.45-3.55 GHz band available for commercial use, including 5G, throughout the contiguous United States. The Commission will also consider a Further Notice of Proposed Rulemaking that would propose to add a co-primary, non-federal fixed and mobile (except aeronautical mobile) allocation to the 3.45-3.55 GHz band as well as service, technical, and competitive bidding rules for flexible-use licenses in the band.
2 | Wireless Tele-Communications | TITLE: Expanding Access to and Investment in the 4.9 GHz Band (WT Docket No. 07-100) SUMMARY: The Commission will consider a Sixth Report and Order that would expand access to and investment in the 4.9 GHz (4940-4990 MHz) band by providing states the opportunity to lease this spectrum to commercial entities, electric utilities, and others for both public safety and non-public safety purposes. The Commission also will consider a Seventh Further Notice of Proposed Rulemaking that would propose a new set of licensing rules and seek comment on ways to further facilitate access to and investment in the band.
3 | International | TITLE: Improving Transparency and Timeliness of Foreign Ownership Review Process (IB Docket No. 16-155). SUMMARY: The Commission will consider a Report and Order that would improve the timeliness and transparency of the process by which it seeks the views of Executive Branch agencies on any national security, law enforcement, foreign policy, and trade policy concerns related to certain applications filed with the Commission.
4 | Wireline Competition | TITLE: Promoting Caller ID Authentication to Combat Spoofed Robocalls (WC Docket No. 17-97) SUMMARY: The Commission will consider a Report and Order that would continue its work to implement the TRACED Act and promote the deployment of caller ID authentication technology to combat spoofed robocalls.
5 | Public Safety and Homeland Security | TITLE: Combating 911 Fee Diversion (PS Docket Nos. 20-291, 09-14). SUMMARY: The Commission will consider a Notice of Inquiry that would seek comment on ways to dissuade states and territories from diverting fees collected for 911 to other purposes.
6 | Media | TITLE: Modernizing Cable Service Change Notifications (MB Docket No. 19-347); Modernization of Media Regulation Initiative (MB Docket No. 17-105) SUMMARY: The Commission will consider a Report and Order that would modernize requirements for notices cable operators must provide subscribers and local franchising authorities.
7 | Media | TITLE: Eliminating Records Requirements for Cable Operator Interests in Video Programming (MB Docket No. 20-35); Modernization of Media Regulation Initiative (MB Docket No. 17-105). SUMMARY: The Commission will consider a Report and Order that would eliminate the requirement that cable operators maintain records in their online public inspection files regarding the nature and extent of their attributable interests in video programming services.
8 | Consumer & Governmental Affairs | TITLE: Reforming IP Captioned Telephone Service Rates and Service Standards (CG Docket Nos. 13-24, 03-123). SUMMARY: The Commission will consider a Report and Order, Order on Reconsideration, and Further Notice of Proposed Rulemaking that would set compensation rates for Internet Protocol Captioned Telephone Service (IP CTS), deny reconsideration of previously set IP CTS compensation rates, and propose service quality and performance measurement standards for captioned telephone services.
9 | Enforcement | TITLE: Enforcement Item. SUMMARY: The Commission will consider an enforcement action.

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

The Federal Communications Commission will hold an Open Meeting on Tuesday, June 9, 2020, which is scheduled to commence at 10:30 a.m. Due to the current COVID-19 pandemic and related agency telework and headquarters access policies, this meeting will be in a wholly electronic format and will be open to the public on the internet via live feed from the FCC's web page at www.fcc.gov/live and on the FCC's YouTube channel.

Federal Communications Commission.
Marlene Dortch,
Secretary.

[FR Doc. 2020-21776 Filed 10-1-20; 8:45 am]

BILLING CODE 6712-01-P